SMALL BUSINESS ADMINISTRATION

Reporting and Recordkeeping Requirements Under OMB Review

AGENCY: Small Business Administration.

ACTION: 30-day notice.

SUMMARY: The Small Business Administration (SBA) is publishing this notice to comply with requirements of the Paperwork Reduction Act (PRA), which requires agencies to submit proposed reporting and recordkeeping requirements to OMB for review and approval, and to publish a notice in the Federal Register notifying the public of that submission.

DATES: Submit comments on or before June 28, 2018.

ADDRESSES: Comments should refer to the information collection by name and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: A copy of the Form OMB 83-1, supporting statement, and other documents submitted to OMB for review may be obtained from the Agency Clearance Officer.

SUPPLEMENTARY INFORMATION: Small Business Administration (SBA) Surety Bond Guarantee Program was created to encourage surety companies to provide bonding for small contractors. The information collected on this form from small businesses and surety companies will be used to evaluate the eligibility of applicants for contracts up to $250,000.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections

Title: Quick Bond Guarantee Application and Agreement.

Description of Respondents: Small Businesses and Surety Companies.

Form Number: SBA Form 990A.

Estimated Annual Respondents: 576.

Estimated Annual Responses: 2,388.

Estimated Annual Hour Burden: 196.

Curtis B. Rich,
Management Analyst.

[FR Doc. 2018-11436 Filed 5-25-18; 8:45 am]

BILLING CODE 8025-01-P